DEPARTMENT OF COMMERCE

National Oceanic and Atmospheric Administration

[I.D. 072904E]

Gulf of Mexico Fishery Management Council; Public Meeting

AGENCY: National Marine Fisheries Service (NMFS), National Oceanic and Atmospheric Administration (NOAA), Commerce.

ACTION: Notice of public meeting.

SUMMARY: The Gulf of Mexico Fishery Management Council (Council) will convene public meetings of the Shark and Oceanic Migratory Species Scientific and Statistical Committees (SSC) and Highly Migratory Species (HMS) and Billfish Advisory Panels (APs) to review potential issues for NOAA Fisheries Highly Migratory Species Division action on August 23-24, 2004.

DATES: The Council's Special Shark and Special Oceanic Migratory Species Scientific and Statistical Committees will convene jointly at 9 a.m. on Monday, August 23, 2004. The Highly Migratory Species and Billfish Advisory Panels will convene jointly at 9 a.m. on Tuesday, August 24, 2004.

ADDRESSES: The meetings will be held at the Hilton Tampa Airport Westshore, 2225 North Lois Avenue, Tampa, FL; telephone: 813-877-6688.

Council address: Gulf of Mexico Fishery Management Council, 3018 U.S. Highway 301 North, Suite 1000, Tampa, FL 33619.

FOR FURTHER INFORMATION CONTACT: Mr. Steven Atran, Population Dynamics Statistician, or Mr. Stu Kennedy, Biologist, Gulf of Mexico Fishery Management Council, 3018 U.S. Highway 301 North, Suite 1000, Tampa, FL 33619; telephone: 813-228-2815.

SUPPLEMENTARY INFORMATION: At each of these meetings, a representative from the NOAA Fisheries Highly Migratory Species Division will present a summary of issues and options for Amendment 2 to the HMS and Billfish Fishery Management Plans, which is currently in its initial scoping phase. The issues and options include a wide range of potential management measures that could affect fishermen, dealers, or equipment suppliers for the Atlantic tuna, swordfish, shark, or billfish fisheries. Some of the issues and potential options for which NOAA Fisheries is requesting comment include, but are not limited to: modifying the General category allocation of Bluefin tuna; filleting Atlantic tuna at sea; modifying the swordfish bag limit for anglers; changing the large coastal shark trip limit for directed permit holders; streamlining the limited access permit program; simplifying the quota and permitting administrative processes for exempted fishing permits; modifying non-tournament reporting of billfish harvest; establishing outreach workshops; implementing the bycatch reduction plan; green stick and/or spearfishing as allowable gears for HMS fisheries; and updating essential fish habitat identifications and data for all HMS.

The joint Shark/Oceanic Migratory Species SSC and the joint HMS/Billfish AP will provide recommendations to the Council on issues and alternatives that should be included in the amendment. The Council will review the SSC and AP recommendations at its September 13-17, 2004 meeting in Panama City Beach, FL, at which time it will make its recommendations to the NOAA Fisheries HMS Division.

The Gulf of Mexico Fishery Management Council is one of eight regional fishery management councils that were established by the Magnuson-Stevens Fishery Conservation and Management Act of 1976. The Gulf of Mexico Fishery Management Council prepares fishery management plans that are designed to manage fishery resources in the U.S. Gulf of Mexico. Although the Council does not manage highly migratory species, it does provide recommendations to the NMFS HMS Division on management measures that affect fisheries in the Gulf of Mexico.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Dawn Aring at the Council (see ADDRESSES) by August 13, 2004.

Dated: July 30, 2004.
Alan D. Risenhoover,
Acting Director, Office of Sustainable Fisheries, National Marine Fisheries Service.

[FR Doc. E4-1730 Filed 8-3-04; 8:45 am]

BILLING CODE 3510-22-S